DEPARTMENT OF TRANSPORTATION

Federal Transit Administration

Early Scoping Notice for the Kitsap County Public Transportation Benefit Area Authority Proposed Seattle Fast Ferry Terminal Facility Project

AGENCY: Federal Transit Administration, Department of Transportation (DOT).

ACTION: Early scoping notice.

SUMMARY: The Federal Transit Administration (FTA) and Kitsap County Public Transportation Benefit Area Authority (Kitsap Transit), the operator of Kitsap Fast Ferries, issue this early scoping notice to advise tribes, agencies, and the public that FTA and Kitsap Transit will explore potential expansion of passenger-only ferry facility capacity on the downtown Seattle waterfront for the Kitsap Transit Seattle Fast Ferry Terminal Facility Project (Project). The Project would improve regional transit service by addressing the current lack of passenger-only ferry landing site capacity on the Seattle waterfront, the most in-demand destination in downtown Seattle.

DATES: Two online public early scoping meetings will be held at the following times (all times are Pacific Daylight Time):

• Monday, June 6, 2022, 12:00-1:00 p.m.

• Wednesday, June 8, 2022, 6:00-7:00 p.m.

Links for the online public early scoping meetings can be found at the project web page: https://www.kitsaptransit.com/seattle-fast-ferry-terminal-siting-study.

In addition, an interagency and tribal early scoping meeting will be held Monday, June 6, 2022, 2:00-3:00 p.m., to receive comments from tribes and agencies who have an interest in the proposed Project. Invitations to the tribal and agency early scoping meeting will be sent to appropriate federal, tribal, state, and local government units and will include details on how to participate in the online meeting.

These early scoping meetings will be conducted in a webinar format, accessible via the internet and by teleconference.

FTA and Kitsap Transit will offer individual meetings with federally-recognized tribes having usual and accustomed (U&A) rights in the project area at their convenience.

Additional information about the Project is provided in the following sections and the Kitsap Transit Fast Ferry Terminal Siting: Early Scoping Information Report available on the project website identified below. Kitsap Transit will also provide information on the alternative analysis at the early scoping meetings, along with opportunities for comment. Information is also currently available on the Kitsap Transit website at the following project web page (https://www.kitsaptransit.com/seattle-fast-ferry-terminal-siting-study).

Written early scoping comments are requested by June 12, 2022, and can be mailed or emailed to the addresses below. Comments can also be provided via the online comment form available at the website address below or left as a voicemail at the phone number below.

ADDRESSES: Steffani Lillie, Kitsap Transit Service and Capital Development Director, 60 Washington Avenue, Suite 200, Bremerton, WA 98337, Email: SteffaniL@kitsaptransit.com, Project website: https://www.kitsaptransit.com/seattle-fast-ferry-terminal-siting-study, Telephone: (360) 478-6931. Information for alternate formats: (360) 479-4348.

FOR FURTHER INFORMATION CONTACT: Mark Assam, Environmental Protection Specialist, Region X, Federal Transit Administration, 915 Second Avenue, Suite 3142, Seattle, WA 98174, phone: (206) 220-4465, email: mark.assam@dot.gov.

SUPPLEMENTARY INFORMATION:

Early Scoping

Early scoping is an optional step in the National Environmental Policy Act (NEPA) process that is intended to invite public, agency, and tribal comments at the earliest reasonable time in project planning. FTA is the lead federal agency under NEPA. Early scoping is also being conducted under the Washington State Environmental Policy Act (SEPA) rules regarding expanded scoping (Washington Administrative Code 197-11-410). Kitsap Transit is the lead agency under SEPA.

Early scoping is being initiated during this Project's site screening and alternatives development phase. This early scoping notice invites the public and other interested parties to comment on the scope of the site screening and alternatives development analysis, including the following: (a) The purpose and need for the Project; (b) the assessment and criteria presented in the Early Scoping Information Report; (c) the potential impacts and benefits of the Project; and (d) other considerations that are relevant to the evaluation of alternatives. These early scoping efforts are being conducted in accordance with NEPA and its implementing regulations.

Purpose and Need for the Project

The purpose of the proposed Project is to improve regional mobility through expanded passenger-only terminal facilities on the downtown Seattle waterfront to:

• Increase vessel docking capacity.

• Increase passenger staging capacity and improve rider amenities, including restrooms and bicycle storage.

• Incorporate shoreside infrastructure and equipment to support electric vessel charging.

• Increase integration of passenger-only ferry travel with other transit modes.

• Maintain or improve rider accessibility to Seattle business, employment, cultural and retail destinations.

• Create opportunities for growth of regional passenger-only ferry routes throughout the Puget Sound Region.

• Improve access to jobs and housing opportunities in regional growth centers.

• Expand mobility options for minority and low-income populations.

Additional terminal facilities are needed because:

• The current passenger-only ferry terminal in downtown Seattle, Pier 50, is the only public facility of its kind. This facility can only accommodate two vessels at one time.

• The Pier 50 passenger-only ferry terminal facility does not have shore-side space for equipment and infrastructure needed to support future electric vessel charging, such as energy storage systems.

• Kitsap Transit's passenger-only ferry service frequency cannot by increased during peak commute periods due to the limited landing site capacity. Current service is limited to 12 landings from the three Kitsap Transit routes within the peak period.

• Terminal docking congestion leads to cascading departure delays and schedule disruptions.

• Access between the more affordable housing on the Kitsap peninsula and the Downtown Seattle job center is constrained due to limited frequency of the passenger-only ferry service. Alternatives to passenger-only ferry service include auto/passenger ferry service provided by WSF, bus transit, or driving; all of which result in travel times roughly twice as long as Kitsap Transit's passenger-only ferry routes.

• Additionally, the Puget Sound Regional Council (PSRC) 2020 Puget Sound Passenger-only Ferry Study identified the lack of landing site capacity in downtown Seattle as a barrier to potential future routes or service expansion.

Project Description

Kitsap Transit is exploring potential expansion of passenger-only ferry facility capacity on the downtown Seattle waterfront to support ongoing operations of Kitsap Fast Ferries and growth of regional passenger-only ferry service. The first step in the Project is to assess downtown Seattle waterfront locations to identify a preferred downtown terminal location to support long-term passenger-only ferry operations.

Project Context and History

Passenger-only ferry docking facilities at the Seattle waterfront, the most in demand destination in downtown Seattle, are limited and inhibit any increases to service on current routes or introduction of new routes due to capacity constraints at the existing facility. The PSRC forecasts in 2018 that the region will add 1.8 million people and 1.2 million jobs by 2050. This growth is supported by PSRC's regional transportation forecasting models that predict continued growth over the next 20 years.

Passenger-only ferry service to downtown Seattle, the region's economic and cultural center, offers an alternative to the region's capacity strained land-based transportation systems and complements existing Washington State Ferries (WSF) service. Passenger-only ferry transportation continues to expand, with Kitsap Transit implementing three routes in the last four years (Bremerton-Seattle, Kingston-Seattle, and Southworth-Seattle) with four vessels, and with ridership growing on the two existing King County Water Taxi routes (West Seattle-Seattle and Vashon Island-Seattle), operated by the Metropolitan King County, Metro Transit Department, Marine Division (King County Metro). In addition to existing operators, a recent PSRC 2020 Puget Sound Passenger-only Ferry Study identified additional potential ferry routes into the congested downtown Seattle waterfront.

The Kitsap Transit passenger-only ferry program is an important transportation link connecting the Kitsap Peninsula to downtown Seattle. To ensure this service is reliable and meets rider needs, adequate landing facilities must be available on both ends of the routes. Kitsap Transit has built adequate landing facilities at two of their four landing locations: Bremerton and Kingston. The Southworth-Seattle route currently shares a single slip with WSF at Southworth, and Kitsap Transit is working with WSF to make facility improvements to expand docking facilities. However, all three Kitsap Transit routes share two slips with the two King County Metro routes at Pier 50 on the Seattle waterfront (Kitsap Transit's fourth landing location). Pier 50's designed operating capacity is insufficient for five distinct routes, serviced by six operating vessels, arriving 20 times during both the morning and afternoon commute periods.

Kitsap Transit is the secondary user at Pier 50 and must fit their service schedule around King County Metro's schedule. Hence, the driving factor in Kitsap Transit's service schedule is docking availability. This means that landing times are limited to available docking windows rather than customer preferences for arrival and departure times. With 12 landings in the peak commute ridership periods (5 a.m. to 9 a.m. and 3 p.m. to 7 p.m.), Kitsap Transit's current schedule fully utilizes the docking times not reserved for King County Metro. Although there are a few remaining dock openings during the commute window, they cannot be accommodated within Kitsap Transit vessel headways and dwell times.

Additional challenges to maintaining service schedules occur when Kitsap Transit and King County Metro vessels experience inevitable transit delays due to weather conditions such as fog or marine traffic that lead to cascading departure delays and service disruptions that cannot be mitigated with two landing slips.

Kitsap Transit must stay within their docking windows in Seattle so as not to disrupt King County Metro's schedule. To maintain docking windows, Kitsap Transit routinely has to travel at higher than planned speeds to maintain the Seattle arrival and departure schedule. At these higher speeds, Kitsap Transit consumes more fuel leading to higher carbon emissions and increased operating costs from higher fuel expense. Higher-speed operations also place greater loads on vessel engines and other vessel systems leading to increased maintenance costs.

Kitsap Transit temporarily operated their Bremerton-Seattle route from a leased private dock at Pier 54. The lease could not be renewed, forcing Kitsap Transit to consolidate all three routes with King County Metro's two routes at Pier 50 beginning May 2, 2022. With five routes and six vessels operating from two slips, the risk of arrival and departure delays and higher operating costs will increase.

Next Steps

Following early scoping, FTA and Kitsap Transit will use the comments received from early scoping to help identify and narrow the range of Project location alternatives for further evaluation in a combined NEPA/SEPA environmental document. If the resulting range of alternatives involves the potential for significant environmental impacts requiring an environmental impact statement (EIS), FTA will publish a Notice of Intent to Prepare an EIS in the Federal Register, and Kitsap Transit will publish a Determination of Significance/Scoping Notice. Tribes, agencies, and the public will be invited to comment on the scope of the EIS at that time.

Authority: 49 CFR 622.101, 23 CFR 771.111, and 40 CFR 1501.7.

Linda M. Gehrke,
Regional Administrator.

[FR Doc. 2022-10156 Filed 5-11-22; 8:45 am]

BILLING CODE P